DEPARTMENT OF COMMERCE

National Oceanic and Atmospheric Administration

[RTID 0648-XA924]

North Pacific Fishery Management Council; Public Meeting

AGENCY: National Marine Fisheries Service (NMFS), National Oceanic and Atmospheric Administration (NOAA), Commerce.

ACTION: Notice of web conference.

SUMMARY: The Center of Independent Experts (CIE) will be held March 30, 2021 through April 1, 2021.

DATES: The meeting will be held on Tuesday, March 30, 2021 through Thursday, April 1, 2021, the agenda with specific times is in the process of being finalized.

ADDRESSES: The meeting will be a web conference. Join online through the link at https://archive.fisheries.noaa.gov/afsc/refm/stocks/plan_team/2021_pop_cie/.

Council address: Alaska Fishery Science Center, 7600 Sand Point Way, Seattle, Washington 98115; telephone (206) 526-4000.

FOR FURTHER INFORMATION CONTACT: Pete Hulson, Alaska Fishery Science Center staff; phone; (907) 789-6060; email: pete.hulson@noaa.gov.

SUPPLEMENTARY INFORMATION:

Agenda

Tuesday, March 30, 2021 Through Thursday, April 1, 2021

The CIE is to review the Gulf of Alaska Pacific ocean perch stock assessment model.

The agenda is subject to change, and the latest version will be posted at https://archive.fisheries.noaa.gov/afsc/refm/stocks/plan_team/2021_pop_cie/ prior to the meeting, along with meeting materials.

Authority: 16 U.S.C. 1801 et seq.

Dated: March 10, 2021.
Tracey L. Thompson,
Acting Deputy Director, Office of Sustainable Fisheries, National Marine Fisheries Service.

[FR Doc. 2021-05300 Filed 3-12-21; 8:45 am]

BILLING CODE 3510-22-P